DEPARTMENT OF TRANSPORTATION

Research and Special Programs Administration

[Docket No. RSPA-98-4470]

Pipeline Safety: Meetings of Pipeline Safety Advisory Committees

AGENCY: Office of Pipeline Safety, Research and Special Programs Administration, DOT.

ACTION: Notice of Advisory Committee meetings.

SUMMARY: Pursuant to section 10(a)(2) of the Federal Advisory Committee Act (Pub. L. 92-463, 5 U.S.C. App. 1) notice is hereby given of the following meetings of the Technical Pipeline Safety Standards Committee (TPSSC) and the Technical Hazardous Liquid Pipeline Safety Standards Committee (THLPSSC). The TPSSC and the THLPSSC are statutorily mandated advisory committees that assist RSPA's Office of Pipeline Safety in its consideration of proposed safety regulations, risk assessments, and safety policies for natural gas and hazardous liquid pipelines. Each committee has an authorized membership of 15 persons, five each from government, industry, and the public. The committees meet in May and November of each year. Each Committee meeting, as well as a joint session of the two Committees, is held at the Department of Transportation, Nassif Building, 400 Seventh Street, SW, Washington, DC 20590. The May 3-4, 2000, meetings will be held in room 2230.

ADDRESSES: Comments on these meetings should be sent to the Dockets Facility, U.S. Department of Transportation, Plaza 401, 400 Seventh Street, SW, Washington, DC 20590-0001. Alternatively, comments may be e-mailed to ops.comments@rspa.dot.gov. All comments must reference Docket No. RSPA-98-4470. The Dockets Facility is located on the plaza level of the Nassif Building in Room 401, 400 Seventh Street, SW, Washington, DC. The Dockets Facility is open from 10 a.m. to 5 p.m., Monday through Friday, except on Federal holidays.

Information on Services for Individuals With Disabilities

For information on facilities or services for individuals with disabilities or to request special assistance at the meeting, contact Jenny Donohue at (202) 366-4046.

FOR FURTHER INFORMATION CONTACT: Mary Jo Cooney, OPS, (202) 366-4774 or Richard Huriaux, OPS, (202) 366-4565, regarding the subject matter of this notice.

SUPPLEMENTARY INFORMATION: On May 3, 2000, at 9 a.m., the Technical Pipeline Safety Standards Committee (the natural gas advisory committee) will meet in room 2230 of the Nassif Building. The preliminary agenda includes:

1. Update on Plastic Pipe Research

2. Proposal for “Class 0” Class Location

3. Gas Gathering Line Definition

4. Gas Pipeline Safety Standards

5. Risk Management: Local Distribution Company Initiative

On May 3, 2000, at 1 p.m., the TPSSC will be joined by members of the THLPSSC for a joint session. The preliminary agenda includes:

1. RSPA Updates and Welcome from Administrator

2. Pipeline Safety Program Reauthorization

3. Budget/Appropriations

4. Community Right-to-Know

4. Producer-operated Outer Continental Shelf Pipelines (Vote)

5. Pipeline Integrity Management in High Consequence Areas

6. National Pipeline Mapping System (NPMS)

The joint session continues on May 4, 2000, at 9 a.m. in room 2230:

7. Periodic Updates to Pipeline Safety Regulations (Vote)

8. Status Report on Path Forward and Dig Safely Initiatives

9. NTSB Recommendations

10. OPS Response Plan Update

On May 4, 2000, at 12:30 p.m., the THLPSSC will meet in room 2230 of the Nassif Building. The preliminary agenda includes:

1. Pipeline Integrity Management in High Consequence Areas (Vote)

2. Corrosion Control on Hazardous Liquid Pipelines (Vote)

3. Unusually Sensitive Areas (USA) Project (Vote)

4. Spill Data Presentation

5. Pressure Testing of Older Pipelines in Terminal

6. Oil Pollution Act Developments

All three meetings will be open to the public. Members of the public will have an opportunity to make short statements on the topics under discussion. Anyone wishing to make an oral statement must notify Jenny Donohue, Room 7128, Department of Transportation, Nassif Building, 400 Seventh Street, SW, Washington, DC 20590, telephone (202) 366-4046, not later than April 21, 2000, on the topic of the statement and the time requested for presentation. The presiding officer at each meeting may deny any request to present an oral statement and may limit the time of any presentation.

Authority: 49 U.S.C. 60102, 60115.

Issued in Washington, DC on March 16, 2000.
Richard B. Felder,
Associate Administrator for Pipeline Safety.

[FR Doc. 00-7061 Filed 3-21-00; 8:45 am]

BILLING CODE 4910-60-P